DEPARTMENT OF COMMERCE

National Oceanic and Atmospheric Administration

RIN 0648-XD084

Mid-Atlantic Fishery Management Council; Public Meeting

AGENCY: National Marine Fisheries Service (NMFS), National Oceanic and Atmospheric Administration (NOAA), Commerce.

ACTION: Notice of a public meeting.

SUMMARY: The Mid-Atlantic Fishery Management Council (Council) will hold a workshop to solicit input from fishing industry members and other stakeholders on best management practices for offshore wind development in the United States.

DATES: The meeting will begin on Wednesday, February 5, 2014 at 1 p.m. and will end on Thursday, February 6, 2014 no later than 5:30 p.m.

Meeting address: The meeting will be held at the Embassy Suites, 222 St. Paul Place, Baltimore, MD 21202; telephone: (800) 362-2779.

Council address: Mid-Atlantic Fishery Management Council, 800 N. State Street, Suite 201, Dover, DE 19901; telephone: (302) 674-2331.

FOR FURTHER INFORMATION CONTACT: Dr. Christopher M. Moore, Executive Director, Mid-Atlantic Fishery Management Council, 800 N. State Street, Suite 201, Dover, DE 19901; telephone: (302) 526-5255.

SUPPLEMENTARY INFORMATION: The purpose of the workshop is to facilitate stakeholder involvement in the development and refinement of best management practices (BMPs) for offshore wind development. The workshop will provide a forum for fishermen, fishery managers, other decision makers, and offshore wind experts to provide input on the Bureau of Ocean Energy Management's (BOEM) Draft Report on Fishing Best Management Practices and Mitigation Measures (http://www.boem.gov/Draft-Report-on-Fishing-Best-Management-Practices-and-Mitigation-Measures/). The Council is planning the workshop in coordination with BOEM, and input provided during the workshop will be incorporated into the final BMPs adopted by BOEM.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: January 14, 2014.
Tracey L. Thompson,
Acting Deputy Director, Office of Sustainable Fisheries, National Marine Fisheries Service.

[FR Doc. 2014-00925 Filed 1-17-14; 8:45 am]

BILLING CODE 3510-22-P